FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 C.F.R. Part 515, effective on the corresponding date shown below:

License Number: 018944N.

Name: Ampac Transline, Inc.

Address: 1533 W. 139th Street, Gardena, CA 90249.

Date Revoked: June 9, 2007.

Reason: Failed to maintain a valid bond.

License Number: 011263F.

Name: Bugatti Freight Int'l (USA) Inc.

Address: 150-40 183rd Street, Ste. 208, Jamaica, NY 11413.

Date Revoked: May 24, 2007.

Reason: Failed to maintain a valid bond.

License Number: 006064N.

Name: Container Management, Inc.

Address: 3250 NW. North River Drive, Miami, FL 33142.

Date Revoked: May 20, 2007.

Reason: Failed to maintain a valid bond.

License Number: 013305N.

Name: Etar, Inc. dba Etar Lines.

Address: 419 S. Hindry Avenue, Inglewood, CA 90301.

Date Revoked: September 14, 2005.

Reason: Failed to maintain a valid bond.

License Number: 017632N.

Name: Global Logix, Inc.

Address: 690 Lunt Ave., Elk Grove Village, IL 60007.

Date Revoked: May 30, 2007.

Reason: Failed to maintain a valid bond.

License Number: 017501NF.

Name: Hepta Run, Inc.

Address: 3400 Rogerdale Rd., Houston, TX 77042.

Date Revoked: June 2, 2007.

Reason: Failed to maintain valid bonds.

License Number: 009704N.

Name: Hi-Best Air Ocean, Inc.

Address: 5777 W. Century Blvd., Ste. 930, Los Angeles, CA 90045.

Date Revoked: May 26, 2007.

Reason: Failed to maintain a valid bond.

License Number: 004333F.

Name: Jose Guillermmo Saavedrea dba Aero-Mar-Terra Forwarding.

Address: 1027 Main Street, Ste. B, Pasadena, TX 77506.

Date Revoked: May 20, 2007.

Reason: Failed to maintain a valid bond.

License Number: 018890N.

Name: Kingsmart Express Container, Inc.

Address: 219 S. Chandler Ave., #E, Monterey Park, CA 91754

Date Revoked: June 5, 2007.

Reason: Surrendered license voluntarily.

License Number: 003557NF.

Name: Nexus International Express, Inc.

Address: 399 W. Victoria Street, Carson, CA 90248

Date Revoked: June 1, 2007.

Reason: Failed to maintain valid bonds.

License Number: 016898F.

Name: Transcontinental Freightways, Inc.

Address: 7007 NW. 30th Street, Miami, FL 33122

Date Revoked: May 24, 2007.

Reason: Failed to maintain a valid bond.

License Number: 018113F.

Name: UFO International Freight Forwarder Corporation.

Address: 15224 West State Street, Westminster, CA 92683.

Date Revoked: May 19, 2007.

Reason: Failed to maintain a valid bond.

Sandra L. Kusumoto,
Director,Bureau of Certification and Licensing.

[FR Doc. E7-11923 Filed 6-19-07; 8:45 am]

BILLING CODE 6730-01-P